DEPARTMENT OF TRANSPORTATION

Maritime Administration

[USCG-2007-28676]

Clearwater Port LLC, Clearwater Port Liquefied Natural Gas Deepwater Port License Application

AGENCY: Maritime Administration, DOT.

ACTION: Notice of application.

SUMMARY: The Coast Guard and the Maritime Administration announce that they have received an application for the licensing of a natural gas deepwater port, and that the application appears to contain the required information. This notice summarizes the applicant's plans and the procedures that will be followed in considering the application.

DATES: The Deepwater Port Act of 1974, as amended, requires any public hearing on this application to be held not later than 240 days after this notice, and requires a decision on the application to be made not later than 90 days after the final public hearing.

ADDRESSES: The public docket is maintained by the: Department of Transportation, Docket Management Facility, West Building, Ground Floor, Room W12-140, 1200 New Jersey Avenue, SE., Washington, DC 20590.

The docket bears a U.S. Coast Guard identifying number, USCG-2007-28676, which should be included in your submission, because the Coast Guard handles much of the processing for each license application. Docket contents are available for public inspection and copying, at this address, in room W12-140, between 9 a.m. and 5 p.m., Monday through Friday, except Federal holidays. The Facility's telephone is 202-366-9329, its fax is 202-493-2251, and its Web site for electronic submissions or for electronic access to docket contents is http://dms.dot.gov.

FOR FURTHER INFORMATION CONTACT: Ray Martin, U.S. Coast Guard, at (202) 372-1449 or Raymond.W.Martin@uscg.mil, Kevin Tone, U.S. Coast Guard, at (202) 372-1441 or Kevin.P.Tone@uscg.mil, or Mr. Scott Davies, U.S. Maritime Administration, at (202) 366-2763 or Scott.Davies@dot.gov. If you have questions on viewing the docket, call Renee V. Wright, Program Manager, Docket Operations, telephone: 202-493-0402.

SUPPLEMENTARY INFORMATION:

Receipt of Application

On July 5, 2006, the Maritime Administration received an application from Clearwater Port LLC for all Federal authorizations required for a license to own, construct, and operate a deepwater port governed by the Deepwater Port Act of 1974, as amended, 33 U.S.C. 1501 et seq. (the Act). On August 23, 2007, the Maritime Administration determined that the application contains all information required by the Act.

Background

According to the Act, a deepwater port is a fixed or floating manmade structure other than a vessel, or a group of structures, located beyond State seaward boundaries and used or intended for use as a port or terminal for the transportation, storage, and further handling of oil or natural gas for transportation to any State.

A deepwater port must be licensed by the Secretary of Transportation. Statutory and regulatory requirements for licensing appear in 33 U.S.C. 1501 et seq. and in 33 CFR part 148. Under delegations from and agreements between the Secretary of Transportation and the Secretary of Homeland Security, applications are processed by the U.S. Coast Guard and the Maritime Administration. Each application is considered on its merits.

The Act provides strict deadlines for processing an application. Once we determine that an application contains the required information, we must hold public hearings on the application within 240 days, and the Secretary of Transportation must render a decision on the application within 330 days. We will publish additional Federal Register notices to inform you of these public hearings and other procedural milestones, including environmental review. The Secretary's decision, and other key documents, will be filed in the public docket.

At least one public hearing must take place in each adjacent coastal State. For purposes of the Act, California is the adjacent coastal State for this application. Other States can apply for adjacent coastal State status in accordance with 33 U.S.C. 1508(a)(2).

Summary of the Application

Clearwater Port LLC (a subsidiary of NorthernStar Natural Gas, LLC) is proposing to construct Clearwater Port, an offshore liquefied natural gas receiving terminal and regasification facility located in federal waters approximately 10.5 miles offshore of the coast of Oxnard, California in Federal Outer Continental Shelf (OCS) Lease Block OCS-P 0217. Clearwater Port would be comprised primarily of Platform Grace, an offset dual berth (ODB) Satellite Service Platform that would be installed adjacent to Platform Grace for docking of the LNG carriers; and a new 36-inch subsea pipeline to transport vaporized natural gas from the platform connecting at a junction point onshore at a Southern California Gas Company (SoCalGas) pipeline located in Rancho Santa Clara near Camarillo, California. The pipeline would come ashore within the Reliant Energy Mandalay Power Generating Station and connect with a new gas receiving and metering facility. The onshore components of the project would consist of approximately 63 miles of new pipeline by expanding the SoCalGas pipeline system as follows: A 36-inch pipeline extending 12.9 miles from the Reliant Energy Mandalay Power Generating Station to the existing Center Road Station; a 36-inch pipeline extending 37 miles to loop the existing Line 324 for transport of additional capacities from the Center Road Station to the existing Saugus Station; an 8.75-mile leg of 36-inch pipeline to loop the existing Line 225 for transport of additional capacities from the existing Honor Rancho Station to the Quigley Station; and, a final 4.5-mile leg of 36-inch pipeline to extend the existing Line 3008 (currently from the Quigley Valve Station to the Newhall Valve Station) for transport of additional capacities from the existing Quigley Valve Station to the existing Balboa Station.

The deepwater port would be able to receive approximately 139 LNG carriers annually and accommodate two LNG carriers ranging from 70,000 m³ to 220,000 m³ in capacity. The carriers would transfer LNG one carrier at a time through a conventional marine loading arm system to the platform via a cryogenic pipe-in-pipe where it would be regasified by an ambient air vaporizer (AAV) system. The AAV would have the capacity to achieve an average hourly rate of 2300 m³, an average daily gas send-out of 1.2 Bcfd and a peak send-out capacity of 1.4 Bcfd. Construction of the deep water port would be expected to take three (3) years; with start-up of commercial operations following construction, should a Federal license and the required California State lease and permits be issued. The deep water port would be designed, constructed and operated in accordance with applicable codes and standards and would have an expected operating life of approximately 30 years.

(Authority 49 CFR 1.66)

By Order of the Maritime Administrator.

Dated: August 27, 2007.
Daron T. Threet,
Secretary, Maritime Administration.

[FR Doc. E7-17326 Filed 8-30-07; 8:45 am]

BILLING CODE 4910-81-P